NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 29, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001. E-mail: request.schedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal and Plant Health Inspection Service (N1-463-09-10, 1 item, 1 temporary item). Master files of an electronic information system used to track organizations and individuals with access to biological agents and toxins.

2. Department of Agriculture, Food and Nutrition Service (N1-462-09-2, 1 item, 1 temporary item). Master files of an electronic information system containing data that supports financial management and accounting operations.

3. Department of Health and Human Services, Agency for Healthcare Research and Quality (N1-510-09-11, 3 items, 3 temporary items). Master files of an electronic information system containing research topic nomination data, user comments, report drafts, and training materials relating to health care effectiveness.

4. Department of Health and Human Services, Centers for Medicare & Medicaid Services (N1-440-09-11, 1 item, 1 temporary item). Master files of electronic information systems containing information used to support quality reviews of Medicare payments for goods and services.

5. Department of Homeland Security, U.S. Immigration and Customs Enforcement (N1-567-10-1, 2 items, 2 temporary items). Master files of an electronic information system containing copies of scanned images of law enforcement investigation records and other administrative and program records.

6. Department of Homeland Security, U.S. Immigration and Customs Enforcement (N1-567-10-4, 4 items, 4 temporary items). Master files, inputs, and outputs of an electronic information system containing biographical, biometric, and other data relating to investigations and law enforcement encounters.

7. Department of Homeland Security, U.S. Immigration and Customs Enforcement (N1-567-10-5, 6 items, 6 temporary items). Master files and outputs of an electronic information system containing information compiled on visa applicants during visa security reviews and recommendations to the State Department regarding issuance of the visas.

8. Department of Homeland Security, U.S. Immigration and Customs Enforcement (N1-567-10-6, 7 items, 7 temporary items). Master files and outputs of an electronic information system containing information used to locate fugitive aliens, as well as information on activities taken to accomplish an arrest and information on aliens (both fugitive and non-fugitive) arrested.

9. Department of Homeland Security, U.S. Immigration and Customs Enforcement (N1-567-10-7, 2 items, 2 temporary items). Master files of an electronic information system containing information on gangs, gang activities, and suspected or confirmed gang members and their associates.

10. Department of Homeland Security, U.S. Immigration and Customs Enforcement (N1-567-10-10, 2 items, 2 temporary items). Master files of an electronic information system containing biographical information and scanned fingerprint images used for applicant and employee criminal history checks.

11. Department of Homeland Security, U.S. Immigration and Customs Enforcement (N1-567-10-11, 2 items, 2 temporary items). Master files and outputs of an electronic information system that contains information about immigration bonds posted for aliens involved in removal proceedings.

12. Department of Homeland Security, U.S. Citizenship and Immigration Services (N1-566-10-2, 4 items, 4 temporary items). Master files of an electronic information system used to track case files involving internal agency investigations.

13. Department of Housing and Urban Development, Agency-wide (N1 207-09-7, 1 item, 1 temporary item). Master files of an electronic information system containing reference copies of policy issuances posted on the agency Web site.

14. Department of the Interior, Office of Surface Mining and Reclamation Enforcement (N1 471-10-4, 1 item, 1 temporary item). Master files of an electronic information system used by coal companies to enter coal production data from which they can prepare required filings for multiple agencies.

15. Department of the Navy (N1-NU-10-2, 6 items, 2 temporary items). Hard copy aperture cards that have been converted to a digital format. The aperture cards contain engineering drawings of mechanical and electrical systems, ships, ordnance, and aircraft. Proposed for permanent retention are the digital versions of the aperture cards, as well as hard copy aperture cards not converted to a digital format.

16. Department of Veterans Affairs, Veterans Benefits Administration (N1-15-09-2, 1 item, 1 temporary item). Worksheets used to compare veterans' reported income with income records of the Internal Revenue Service and Social Security Administration.

17. Export-Import Bank of the United States, Agency-wide (N1-275-10-2, 1 item, 1 temporary item). Master files of an electronic information system used to track financial instruments with renegotiated terms and/or payment schedules.

18. Export-Import Bank of the United States, Agency-wide (N1-275-10-4, 1 item, 1 temporary item). Master files of an electronic information system used to monitor and evaluate risks of financial products.

19. Federal Maritime Commission, Office of the Secretary (N1-358-09-7, 11 items, 9 temporary items). Reading files, routine fact finding investigation files, official docket files for non-significant cases, interoffice confidential files, environmental assessments with findings of no significant impact, environmental/energy impact statements, certification files, and subject files. Proposed for permanent retention are official docket files for significant cases and Chairmen's and Commissioners' speech and biography files.

20. Federal Mine Safety and Health Review Commission, Docket Office (N1-470-09-2, 5 items, 4 temporary items). Audio recordings of Commission meetings, case files relating to citations and orders issued to mine operators, and master files of an electronic information system used to track cases. Proposed for permanent retention are Commission Blue Books containing administrative law decisions and orders that merit publication.

21. Federal Mine Safety and Health Review Commission, Office of Administrative Law Judges (N1-470-09-3, 7 items, 7 temporary items). Cases pending files, subject files, chronological files, and administrative meeting files.

22. Federal Mine Safety and Health Review Commission, Office of General Counsel (N1-470-09-4, 13 items, 10 temporary items). Cases pending files, tally sheets, chronological files, petitions for review, rulemaking files, subject files, and FOIA reading room materials. Proposed for permanent retention are decisional memoranda, pre-decisional opinions, and speeches.

23. Federal Mine Safety and Health Review Commission, Office of Chairman, Commissioners, and Counsels (N1-470-09-5, 16 items, 15 temporary items). Pending case files, closed case files, petitions for reviews, copies of decisions, default orders, cases pending before the U.S. Court of Appeals, case tracking files, rulemaking files, legislative reference files, chronological files, subject files, management and meeting files, and EEO records. Speeches by the Chairman and Commissioners are proposed for permanent retention.

24. National Archives and Records Administration, Office of Records Services (DAA-0064-2010-0006, 1 item, 1 temporary item). Correspondence, applications, attendance records, billing documents, and other records relating to records management workshops, conferences, and training courses.

25. National Credit Union Administration, Agency-wide (N1-413-09-1, 16 items, 13 temporary items). Records relating to individual credit unions, including reports of examination, routine correspondence, and customer complaints. Also included are Community Development Revolving Loan Program files and credit union liquidation files. Proposed for permanent retention are credit union regulatory, charter, and insurance files.

Dated: August 24, 2010.
Michael J. Kurtz,
Assistant Archivist for Records Services—Washington, DC.

[FR Doc. 2010-21672 Filed 8-27-10; 8:45 am]

BILLING CODE 7515-01-P